DEPARTMENT OF HEALTH AND HUMAN SERVICES

Office of the Secretary

Centers for Medicare & Medicaid Services

Delegation of Authorities

Notice is hereby given that I have delegated to the Administrator, Centers for Medicare & Medicaid Services (CMS), or his or her successor, authorities vested in the Secretary under Section 6409(a) and (b) of the Patient Protection and Affordable Care Act (ACA), Public Law 111-148, as amended hereafter, relating to the development of a Medicare self-referral disclosure protocol and the reduction of amounts due and owing under Section 1877(g) [42 U.S.C. 1395nn(g)] of the Social Security Act.

This delegation of authorities excludes the authority under Section 6409(c) of ACA to submit a report to Congress on the implementation of Section 6409.

This delegation of authorities granted herein may be re-delegated.

These authorities shall be exercised under the Department's policy on regulations and the existing delegation of authority to approve and issue regulations.

I hereby affirm and ratify any actions taken by the Administrator, CMS, or his or her subordinates, which involved the exercise of the authorities delegated herein prior to the effective date of this delegation.

This delegation of authorities granted herein is effective immediately.

Authority: 44 U.S.C. 3101.

Dated: September 29, 2010.
Kathleen Sebelius,
Secretary.

[FR Doc. 2010-25976 Filed 10-14-10; 8:45 am]

BILLING CODE 4120-01-P